DEPARTMENT OF COMMERCE

National Oceanic and Atmospheric Administration

RIN 0648-XP35

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by the Massachusetts Division of Marine Fisheries (MADMF) contains all of the required information and warrants further consideration. The Assistant Regional Administrator has made a preliminary determination that the activities authorized under this EFP would be consistent with the goals and objectives of the Northeast (NE) Multispecies and Spiny Dogfish Fishery Management Plans (FMPs). However, further review and consultation may be necessary before a final determination is made to issue an EFP. Therefore, NMFS announces that the Assistant Regional Administrator proposes to recommend that an EFP be issued that would allow one commercial fishing vessel to conduct fishing operations that are otherwise restricted by the regulations governing the fisheries of the Northeastern United States. This EFP, which would enable researchers to study the effects of a spiny dogfish excluder grate within a raised footrope whiting trawl, would grant exemptions from the NE multispecies regulations as follows: Gear restrictions while fishing in the Gulf of Maine (GOM) Regulated Mesh Area (RMA); NE multispecies days-at-sea (DAS) effort control measures; GOM Rolling Closure areas; and NE multispecies minimum fish sizes for sampling purposes only.

Regulations under the Magnuson-Stevens Fishery Conservation and Management Act require publication of this notification to provide interested parties the opportunity to comment on applications for proposed EFPs.

DATES: Comments must be received on or before June 8, 2009.

ADDRESSES: You may submit written comments by any of the following methods:

• Email: DA9-058@noaa.gov. Include in the subject line “Comments on MADMF whiting fishery EFP.”

• Mail: Patricia A. Kurkul, Regional Administrator, NMFS, NE Regional Office, 55 Great Republic Drive, Gloucester, MA 01930. Mark the outside of the envelope “Comments on MA MADMF whiting fishery EFP, DA9-058.”

• Fax: (978) 281-9135.

FOR FURTHER INFORMATION CONTACT: Allison Murphy, Fishery Management Specialist, 978-281-9122.

SUPPLEMENTARY INFORMATION: An application for an EFP was submitted on March 4, 2009, by David Chosid, the conservation engineering project leader at MADMF. The primary goal of this study is to investigate the effects of an experimental excluder grate in order to reduce catch rates of spiny dogfish and maximize the catch rates of whiting, using a raised footrope whiting trawl. The results of this research could be submitted to the New England Fishery Management Council to provide information that could be used to enhance the management of the whiting and spiny dogfish fisheries.

The project is proposed to be conducted from June 2009 through September 2009. One fishing industry collaborator would conduct a total of 56, 1-hour tows using the excluder grate in a raised footrope whiting trawl over the course of 14 trips. The vessel would use a 2.5-inch (6.4-cm) diamond codend mesh and, with the exception of the spiny dogfish grate, the gear would be configured as a standard raised footrope trawl. All experimental tows would occur between 42°12′ W. long. and 42°30′ W. long. in statistical areas 513 and 514. Fishing would occur along the western edge of Stellwagen Bank National Marine Sanctuary, but not within it. An underwater camera would be attached to the net to observe the behavior of spiny dogfish and whiting. Catches in the codend would be quantified. MADMF would have at least one staff member on board the vessel at all times during the experimental tows.

Due to the small mesh size used in the whiting fishery, this activity would require an exemption from gear restrictions while fishing in the GOM RMA found at 50 CFR 648.80(a)(3)(i). The researchers are requesting permission to fish outside of the small mesh exemption areas and time restrictions in order to demonstrate successful avoidance of the target species, spiny dogfish. Based on industry recommendations, whiting and spiny dogfish are expected to be in relatively high abundance in the proposed research location. The requested exemption would help ensure that adequate densities of fish are present to conduct valid testing and provide sound statistical evidence of gear performance within that area. Additionally, work outside the Special Access Program (SAP) area could offer further possibilities for an extended whiting fishery. An exemption from the use of NE multispecies DAS is necessary because, due to the small mesh size of the raised footrope trawl, landing NE multispecies under the DAS possession limits would be prohibited and thus inconsistent with the purposes of charging DAS. In lieu of fishing under a NE multispecies DAS, the project would be required to adhere to a multispecies bycatch cap of 10 percent of the total weight of fish caught overall during the course of the research. No NE multispecies would be landed for sale, with the exception of small-mesh multispecies. An exemption from the GOM Rolling Closure areas is necessary so that the net may be tested when targeted species are present in order to prove successful avoidance. Additionally, this EFP would include a temporary exemption from multispecies minimum size limits at § 648.86 for sampling purposes only. This exemption would allow measurement and recording biological information of undersized specimens prior to their discard.

Small-mesh multispecies caught during the research would be landed and sold, up to the current possession limit, to provide additional funding for the project. All other organisms, including small-mesh multispecies with high expected survival rates, would be released as quickly and carefully as practicable. The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 18, 2009.
Kristen C. Koch
Acting Director, Office of Sustainable Fisheries, National Marine Fisheries Service.

[FR Doc. E9-12034 Filed 5-21-09; 8:45 am]

BILLING CODE 3510-22-S